DEPARTMENT OF AGRICULTURE

Forest Service

Eldorado National Forest, CA; Environmental Impact Statement

AGENCY: Forest Service, USDA Forest Service.

ACTION: Notice of intent to prepare an environmental impact statement.

SUMMARY: The Forest Service will prepare an environmental impact statement (EIS) for resource management activities, including road construction, road reconstruction, biomass removal, understory thinning, prescribed burning and wildlife habitat improvement work on the Airport Forest Health Project involving a total planning area size of about 11,000 acres on the Pacific Ranger District of the Eldorado National Forest. The agency invites written comments and suggestions on the analysis. The agency also gives notice of the full environmental analysis and decision-making process that will occur on the proposal so that interested and affected people are aware of how they may participate and contribute to the final decision.

DATES: Scoping and subsequent environmental analysis began on the Airport Forest Health Project in January 1998. Scoping was completed and an environmental assessment (EA) was published and made available to the public in March 2000. Based upon environmental analysis and public comments to the environmental assessment, the Forest Supervisor of the Eldorado National Forest has determined that an environmental impact statement is the appropriate environmental document for this project.

ADDRESSES: Submit written comments and suggestions concerning the analysis to Don Errington, Pacific Ranger Station, Pollock Pines, California, 95726.

FOR FURTHER INFORMATION CONTACT: Questions about the proposed action and EIS should be directed to Don Errington, Pacific Ranger Station, Pollock Pines, California, 95726, Phone (530) 644-2349.

SUPPLEMENTARY INFORMATION: The Eldorado National Forest Land and Resource Management Plan was completed in January 1989. The Airport Forest Health Project EIS will tier to the approved Eldorado National Forest Land and Resource Management Plan. There are no known permits or licenses required to implement the proposed action.

Public comments previously received during scoping and in response to the completed environmental assessment will be considered in preparing the Final EIS. The Forest Service will identify and consider a range of alternatives for this project. The proposed alternatives will include the following:

1. No Action;

2. Understory thinning on approximately 180 acres and follow-up fuels reduction immediately around public use developments and public use areas using ground based equipment;

3. Understory thinning on approximately 2,200 acres and follow-up fuels reduction around public use developments and public use areas and other selected areas using ground based equipment; and

4. Understory thinning on approximately 2,900 acres and fuels reduction around public use developments and public use areas and on other selected areas using ground based and helicopter equipment.

These alternatives will consider varying levels and distribution of vegetative manipulation, timber harvest and fuels management. Specified new road construction will vary by alternative (0.1 miles in Alternative 2 and 2.2 miles in Alternatives 3 and 4). Road reconstruction will vary by alternative (0.3 miles in Alternative 2 and 18.2 miles in Alternatives 3 and 4. Road reconstruction will include road rocking, surface drainage work, clearing and minor realignment. Harvest prescriptions will include understory removal of both merchantable and sub-merchantable trees and commercial thinning of merchantable trees. All harvest prescriptions will conform with the California Spotted Owl Sierran Province Interim Guidelines Environmental Assessment and Decision Notice. Volume estimates of timber to be harvested range from 0 to 11 million boardfeet of commercial sawtimber. Biomass removal estimates range from 0 to 40,000 tons. Post-harvest herbicide use is proposed on 180 acres to help achieve reforestation of understocked areas. All estimates will be dependent on which alternative is chosen.

Preliminary issues that have been identified during the environmental analysis process include:

1. The concern that valuable developments may be destroyed by wildfire.

2. The concern that public recreational experiences may be affected by catastrophic fire or project activities.

3. The concern that healthy, functioning watersheds may be impacted by wildfire or selected treatments.

4. The concern that the socioeconomic well-being of local communities may be affected by wildfire.

5. The concern that the project may not be economically viable.

6. The concern that late seral habitat may be affected by project activities or wildfire.

7. The concern that air quality may be adversely affected by project activities or wildfire.

8. The concern that cultural resources may be adversely affected by project activities or wildfire.

9. The concern that herbicide use may adversely affect the environment.

10. The concern that road reconstruction, construction or decommissioning may cause undesirable environmental effects.

11. The concern that meadows are being invaded by conifer species and could be damaged by wildfire.

Public participation is especially important at several points during the analysis. The first point is during the scoping process (40 CFR 1501.7). The Forest Service has sought information, comments, and assistance from federal, state and local agencies and other individuals or organizations that may be interested in or affected by the proposed project.

John Berry, Forest Supervisor, Eldorado National Forest, is the responsible official. The draft EIS is expected to be filed with the Environmental Protection Agency (EPA) and to be available for public review by August, 2000. At that time, EPA will publish a notice of availability of the draft EIS in the Federal Register. The comment period on the draft EIS will be 45 days from the date that EPA's notice of availability appears in the Federal Register.

The Forest Service believes, at this early stage, it is important to give reviewers notice of several court rulings related to public participation in the environmental review process. First, reviewers of draft environmental impact statements must structure their participation in the environmental review of the proposals so that it is meaningful and alerts an agency to the reviewer's position and contentions (Vermont Yankee Nuclear Power Corp. v. NRDC, 435 U.S. 519, 553 (1978)). Also, environmental objections that could be raised at the draft environmental impact statement stage, but that are not raised until after completion of the final environmental impact statement may be waived or dismissed by the courts (City of Angoon v. Hodel, 803 F2.d 1016, 1022 9th Cir. 1986)) and (Wisconsin Heritiges Inc. v. Harris, 490 F. Supp. 1334, 1338 (E.D. Wis. 1980)).

Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the comment period ends on the draft EIS, the comments will be analyzed and considered by the Forest Service in preparing the final EIS. Comments previously received in response to the Airport Forest Health Project environmental assessment will be considered in the Final EIS. In the Final EIS the Forest Service is required to respond to the comments and responses received (40 CFR 1503.4). The Final EIS is scheduled to be completed by September, 2000. The responsible official will consider the comments, responses, and environmental consequences discussed in the Final EIS; and applicable laws, regulations, and policies in making a decision regarding this project. The responsible official will document the decision and reasons for the decision in the Record of Decision. That decision will be subject to appeal pursuant to 36 CFR 215.

Dated: June 20, 2000.
John Berry,
Forest Supervisor, Eldorado National Forest.

[FR Doc. 00-16171 Filed 6-26-00; 8:45 am]

BILLING CODE 3410-11-M